DEPARTMENT OF THE TREASURY

Office of Foreign Assets Control

31 CFR Part 591

Publication of Venezuela Sanctions Regulations Web General Licenses 12, 13, and Subsequent Iterations

AGENCY: Office of Foreign Assets Control, Treasury.

ACTION: Publication of web general licenses.

SUMMARY: The Department of the Treasury's Office of Foreign Assets Control (OFAC) is publishing seven general licenses (GLs) issued in the Venezuela Sanctions program: GLs 12, 13, 13A, 13B, 13C, 13D, and 13E, each of which was previously made available on OFAC's website and is now expired.

DATES: GLs 12 and 13 were issued on January 28, 2019. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On January 28, 2019, OFAC issued GLs 12 and 13 to authorize certain transactions otherwise prohibited by Executive Order (E.O.) 13850 of November 1, 2018, “Blocking Property of Additional Persons Contributing to the Situation in Venezuela” (83 FR 55243, November 2, 2019). Subsequently, OFAC issued five further iterations of GL 13 which extended the duration and modified the scope of the authorization: on June 6, 2019, OFAC issued GL 13A which superseded GL 13; on June 26, 2019, OFAC issued GL 13B, which superseded GL 13A; on August 5, 2019, OFAC issued GL 13C, which superseded GL 13B; on October 17, 2019, OFAC issued GL 13D, which superseded GL 13C; and on April 3, 2020, OFAC issued GL 13E, which superseded GL 13D. On November 22, 2019, OFAC incorporated the prohibitions of E.O. 13850, as well as any other Executive orders issued pursuant to the national emergency declared in Executive Order 13692 of March 8, 2015, into the Venezuelan Sanctions Regulations, 31 CFR part 591. Each GL was made available on OFAC's website (www.treas.gov/ofac) when it was issued. The text of these GLs is provided below.

OFFICE OF FOREIGN ASSETS CONTROL

Executive Order 13850 of November 1, 2018

Blocking Property of Additional Persons Contributing to the Situation in Venezuela

GENERAL LICENSE NO. 12

Authorizing Certain Activities Necessary To Wind Down of Operations or Existing Contracts With Petróleos de Venezuela, S.A. (PdVSA)

(a) Except as provided in paragraphs (c) and (d) of this general license, all transactions and activities prohibited by Executive Order 13850 that are ordinarily incident and necessary to the purchase and importation into the United States of petroleum and petroleum products from PdVSA or any entity in which PdVSA owns, directly or indirectly, a 50 percent or greater interest are authorized through 12:01 a.m. eastern daylight time, April 28, 2019.

(b) Except as provided in paragraphs (c) and (d) of this general license, all transactions and activities prohibited by Executive Order 13850 that are ordinarily incident and necessary to the wind down of operations, contracts, or other agreements, including the importation into the United States of goods, services, or technology not authorized in paragraph (a) of this general license, involving PdVSA or any entity in which PdVSA owns, directly or indirectly, a 50 percent or greater interest and that were in effect prior to January 28, 2019 are authorized through 12:01 a.m. eastern standard time, February 27, 2019.

(c) Except as authorized by Venezuela General Licenses 7, 8, 11, or 13, any payment to or for the direct or indirect benefit of a blocked person that is ordinarily incident and necessary to give effect to a transaction authorized in paragraph (a) of this general license must be made into a blocked, interest-bearing account located in the United States in accordance with 31 CFR part 591.

(d) This general license does not authorize:

(1) The divestiture or transfer of any debt, equity, or other holdings in, to, or for the benefit of the blocked persons identified above;

(2) The exportation or reexportation of any diluents from the United States to Venezuela, PdVSA, or any entity in which PdVSA owns, directly or indirectly, a 50 percent or greater interest;

(3) Any transactions or dealings with ALBA de Nicaragua (ALBANISA) or any entity in which ALBANISA owns, directly or indirectly, a 50 percent or greater interest; or

(4) Any transactions or dealings otherwise prohibited by Executive Order 13850 of November 1, 2018, Executive Order 13835 of May 21, 2018, Executive Order 13827 of March 19, 2018, Executive Order 13808 of August 24, 2017, Executive Order 13692 of March 8, 2015, or any part of 31 CFR chapter V, or any transactions or dealings with any blocked person other than the blocked persons identified in paragraph (a) of this general license.

Andrea Gacki, Director, Office of Foreign Assets Control,

Dated: January 28, 2019.

OFFICE OF FOREIGN ASSETS CONTROL

Executive Order 13850 of November 1, 2018

Blocking Property of Additional Persons Contributing to the Situation in Venezuela

GENERAL LICENSE NO. 13

Authorizing Certain Activities Involving Nynas AB

(a) Except as provided in paragraph (c) of this general license, all transactions and activities prohibited by Executive Order 13850, where the only Petróleos de Venezuela, S.A. (PdVSA) entities involved are Nynas AB or any of its subsidiaries, are authorized through 12:01 a.m. eastern daylight time, July 27, 2019.

(b) Except as authorized by Venezuela General License 11, any payment to or for the direct or indirect benefit of a blocked person other than Nynas AB or any of its subsidiaries that is ordinarily incident and necessary to give effect to transactions authorized in paragraph (a) of this general license and that come into the possession or control of any U.S. person must be placed into a blocked, interest-bearing account located in the United States in accordance with 31 CFR 591.203.

(c) This general license does not authorize:

(1) Any exportation or reexportation of any goods, services, or technology, directly or indirectly, by U.S. persons, wherever located, or from the United States, to PdVSA or any entity owned 50 percent or more, directly or indirectly, by PdVSA, other than Nynas AB or any of its subsidiaries, or to any other blocked persons;

(2) Any transaction that is otherwise prohibited under Executive Order 13850 of November 1, 2018, Executive Order 13835 of May 21, 2018, Executive Order 13827 of March 19, 2018, Executive Order 13808 of August 24, 2017, Executive Order 13692 of March 8, 2015, or any part of 31 CFR chapter V, or any transactions or dealings with any blocked person other than the transactions described in paragraph (a) of this general license; or

(3) The unblocking of any property blocked pursuant to any part of 31 CFR chapter V, except as authorized by paragraph (a).

Andrea Gacki, Director, Office of Foreign Assets Control.

Dated: January 28, 2019.

OFFICE OF FOREIGN ASSETS CONTROL

Executive Order 13850 of November 1, 2018

Blocking Property of Additional Persons Contributing to the Situation in Venezuela

GENERAL LICENSE NO. 13A

Authorizing Certain Activities Involving Nynas AB

(a) Except as provided in paragraph (c) of this general license, all transactions and activities prohibited by Executive Order (E.O.) 13850, as amended by E.O. 13857 of January 25, 2019, where the only Petróleos de Venezuela, S.A. (PdVSA) entities involved are Nynas AB or any of its subsidiaries, are authorized through 12:01 a.m. eastern daylight time, July 27, 2019.

(b) Except as authorized by Venezuela General License 11, any payment to or for the direct or indirect benefit of a blocked person other than Nynas AB or any of its subsidiaries that is ordinarily incident and necessary to give effect to transactions authorized in paragraph (a) of this general license and that come into the possession or control of any U.S. person must be placed into a blocked, interest-bearing account located in the United States in accordance with 31 CFR 591.203.

(c) This general license does not authorize:

(1) Any exportation or reexportation of any goods, services, or technology, directly or indirectly, by U.S. persons, wherever located, or from the United States, to PdVSA or any entity owned 50 percent or more, directly or indirectly, by PdVSA, other than Nynas AB or any of its subsidiaries, or to any other blocked persons;

(2) Any transactions or dealings related to the exportation or reexportation of diluents, directly or indirectly, to Venezuela;

(3) Any transaction that is otherwise prohibited by E.O. 13850, E.O. 13835 of May 21, 2018, E.O. 13827 of March 19, 2018, E.O. 13808 of August 24, 2017, E.O. 13692 of March 8, 2015, each as amended by E.O. 13857, or any part of 31 CFR. chapter V, or any transactions or dealings with any blocked person other than the transactions described in paragraph (a) of this general license; or

(4) The unblocking of any property blocked pursuant to any part of 31 CFR chapter V, except as authorized by paragraph (a).

(e) Effective June 6, 2019, General License 13, dated January 28, 2019, is replaced and superseded in its entirety by this General License No. 13A.

Andrea Gacki, Director, Office of Foreign Assets Control,

Dated: June 6, 2019.

OFFICE OF FOREIGN ASSETS CONTROL

Executive Order 13850 of November 1, 2018

Blocking Property of Additional Persons Contributing to the Situation in Venezuela

GENERAL LICENSE NO. 13B

Authorizing Certain Activities Involving Nynas AB

(a) Except as provided in paragraph (c) of this general license, all transactions and activities prohibited by Executive Order (E.O.) 13850, as amended by E.O. 13857 of January 25, 2019, where the only Petróleos de Venezuela, S.A. (PdVSA) entities involved are Nynas AB or any of its subsidiaries, are authorized through 12:01 a.m. eastern daylight time, October 25, 2019.

(b) Except as authorized by Venezuela General License 11, any payment to or for the direct or indirect benefit of a blocked person other than Nynas AB or any of its subsidiaries that is ordinarily incident and necessary to give effect to transactions authorized in paragraph (a) of this general license and that come into the possession or control of any U.S. person must be placed into a blocked, interest-bearing account located in the United States in accordance with 31 CFR 591.203.

(c) This general license does not authorize:

(1) Any exportation or reexportation of any goods, services, or technology, directly or indirectly, by U.S. persons, wherever located, or from the United States, to PdVSA or any entity owned 50 percent or more, directly or indirectly, by PdVSA, other than Nynas AB or any of its subsidiaries, or to any other blocked persons;

(2) Any transactions or dealings related to the exportation or reexportation of diluents, directly or indirectly, to Venezuela;

(3) Any transaction that is otherwise prohibited by E.O. 13850, E.O. 13835 of May 21, 2018, E.O. 13827 of March 19, 2018, E.O. 13808 of August 24, 2017, E.O. 13692 of March 8, 2015, each as amended by E.O. 13857, or any part of 31 CFR. chapter V, or any transactions or dealings with any blocked person other than the transactions described in paragraph (a) of this general license; or

(4) The unblocking of any property blocked pursuant to any part of 31 CFR. chapter V, except as authorized by paragraph (a).

(e) Effective June 26, 2019, General License 13A, dated June 6, 2019, is replaced and superseded in its entirety by this General License No. 13B.

Andrea Gacki, Director, Office of Foreign Assets Control,

Dated: June 26, 2019.

OFFICE OF FOREIGN ASSETS CONTROL

Executive Order 13850 of November 1, 2018

Blocking Property of Additional Persons Contributing to the Situation in Venezuela

Executive Order of August 5, 2019

Blocking Property of the Government of Venezuela

GENERAL LICENSE NO. 13C

Authorizing Certain Activities Involving Nynas AB

(a) Except as provided in paragraph (c) of this general license, all transactions and activities prohibited by Executive Order 13850 (E.O.) 13850, as amended by E.O. 13857 of January 25, 2019, or E.O. of August 5, 2019, where the only Government of Venezuela entities involved are Nynas AB or any of its subsidiaries, are authorized through 12:01 a.m. eastern daylight time, October 25, 2019.

(b) Except as authorized by Venezuela General License 11, any payment to or for the direct or indirect benefit of a blocked person other than Nynas AB or any of its subsidiaries that is ordinarily incident and necessary to give effect to transactions authorized in paragraph (a) of this general license and that come into the possession or control of any U.S. person must be placed into a blocked, interest-bearing account located in the United States in accordance with 31 CFR 591.203.

(c) This general license does not authorize:

(1) Any exportation or reexportation of any goods, services, or technology, directly or indirectly, by U.S. persons, wherever located, or from the United States, to the Government of Venezuela, other than to Nynas AB or any of its subsidiaries, or to any other blocked persons;

(2) Any transactions or dealings related to the exportation or reexportation of diluents, directly or indirectly, to Venezuela;

(3) Any transaction that is otherwise prohibited by E.O. of August 5, or E.O. 13850, E.O. 13835 of May 21, 2018, E.O. 13827 of March 19, 2018, E.O. 13808 of August 24, 2017, or E.O. 13692 of March 8, 2015, each as amended by E.O. 13857, or any part of 31 CFR. chapter V, or any transactions or dealings with any blocked person other than the transactions described in paragraph (a) of this general license; or

(4) The unblocking of any property blocked pursuant to any part of 31 CFR chapter V, except as authorized by paragraph (a).

(c) Effective August 5, 2019, General License 13B, dated June 26, 2019, is replaced and superseded in its entirety by this General License No. 13C.

Andrea Gacki, Director, Office of Foreign Assets Control,

Dated: August 5, 2019.

OFFICE OF FOREIGN ASSETS CONTROL

Executive Order 13850 of November 1, 2018

Blocking Property of Additional Persons Contributing to the Situation in Venezuela

Executive Order 13884 of August 5, 2019

Blocking Property of the Government of Venezuela

GENERAL LICENSE NO. 13D

Authorizing Certain Activities Involving Nynas AB

(a) Except as provided in paragraph (c) of this general license, all transactions and activities prohibited by Executive Order (E.O.) 13850, as amended by E.O. 13857 of January 25, 2019, or E.O. 13884, where the only Government of Venezuela entities involved are Nynas AB or any of its subsidiaries, are authorized through 12:01 a.m. eastern daylight time, April 14, 2020.

(b) Any payment to or for the direct or indirect benefit of a blocked person other than Nynas AB or any of its subsidiaries that is ordinarily incident and necessary to give effect to transactions authorized in paragraph (a) of this general license and that come into the possession or control of any U.S. person must be placed into a blocked, interest-bearing account located in the United States in accordance with 31 CFR 591.203.

(c) This general license does not authorize:

(1) Any exportation or reexportation of any goods, services, or technology, directly or indirectly, by U.S. persons, wherever located, or from the United States, to the Government of Venezuela, other than to Nynas AB or any of its subsidiaries, or to any other blocked persons;

(2) Any transactions or dealings related to the exportation or reexportation of diluents, directly or indirectly, to Venezuela;

(3) Any transactions or dealings related to the purchase or acquisition of Venezuelan- origin petroleum or petroleum products, directly or indirectly, by Nynas AB or any of its subsidiaries;

(4) Any transaction that is otherwise prohibited by E.O. 13884, or E.O. 13850, E.O. 13835 of May 21, 2018, E.O. 13827 of March 19, 2018, E.O. 13808 of August 24, 2017, or E.O. 13692 of March 8, 2015, each as amended by E.O. 13857, or any part of 31 CFR. chapter V, or any transactions or dealings with any blocked person other than the transactions described in paragraph (a) of this general license; or

(5) The unblocking of any property blocked pursuant to any part of 31 CFR chapter V, except as authorized by paragraph (a).

(d) Effective October 17, 2019, General License 13C, dated August 5, 2019, is replaced and superseded in its entirety by this General License No. 13D.

Bradley T. Smith, Deputy Director, Office of Foreign Assets Control,

Dated: October 17, 2019.

OFFICE OF FOREIGN ASSETS CONTROL

Venezuela Sanctions Regulations

31 CFR Part 591

GENERAL LICENSE NO. 13E

Authorizing Certain Activities Involving Nynas AB

(a) Except as provided in paragraph (c) of this general license, all transactions and activities prohibited by Executive Order (E.O.) 13850 of November 1, 2018, as amended by E.O. 13857 of January 25, 2019, or E.O. 13884 of August 5, 2019, each as incorporated into the Venezuela Sanctions Regulations, 31 CFR part 591 (the VSR), where the only Government of Venezuela entities involved are Nynas AB or any of its subsidiaries, are authorized through 12:01 a.m. eastern daylight time, May 14, 2020.

(b) Any payment to or for the direct or indirect benefit of a blocked person other than Nynas AB or any of its subsidiaries that is ordinarily incident and necessary to give effect to transactions authorized in paragraph (a) of this general license and that come into the possession or control of any U.S. person must be placed into a blocked, interest-bearing account located in the United States in accordance with 31 CFR 591.203.

(c) This general license does not authorize:

(1) Any exportation or reexportation of any goods, services, or technology, directly or indirectly, by U.S. persons, wherever located, or from the United States, to the Government of Venezuela, other than to Nynas AB or any of its subsidiaries, or to any other blocked persons;

(2) Any transactions or dealings related to the exportation or reexportation of diluents, directly or indirectly, to Venezuela;

(3) Any transactions or dealings related to the purchase or acquisition of Venezuelan-origin petroleum or petroleum products, directly or indirectly, by Nynas AB or any of its subsidiaries;

(4) Any transactions or activities otherwise prohibited by the VSR, or any other part of 31 CFR chapter V, or any transactions or activities with any blocked person other than the blocked persons identified in paragraph (a) of this general license; or

(5) The unblocking of any property blocked pursuant to any part of 31 CFR chapter V, except as authorized by paragraph (a).

(d) Effective April 3, 2020, General License No. 13D, dated October 17, 2019, is replaced and superseded in its entirety by this General License No. 13E.

Andrea Gacki, Director, Office of Foreign Assets Control,

Dated: April 3, 2020.

Andrea M. Gacki,
Director, Office of Foreign Assets Control.

[FR Doc. 2023-00346 Filed 1-12-23; 8:45 am]

BILLING CODE 4810-AL-P